DEPARTMENT OF HEALTH AND HUMAN SERVICES

National Institutes of Health

National Heart, Lung, and Blood Institute; Amended Notice of Meeting

Notice is hereby given of a change in the meeting of the National Heart, Lung, and Blood Institute Special Emphasis Panel, November 16, 2006, 8 a.m. to November 17, 2006, 5 p.m., DoubleTree Rockville, 1750 Rockville Pike, Rockville, MD 20852 which was published in the Federal Register on September 14, 2006, FR 06-7626.

The November 16-17, 2006 meeting dates were changed to two 1-day meetings and the meeting locations were changed from the DoubleTree Rockville to the Bethesda Marriott. The meeting is closed to the public.

Dated: October 20, 2006.
Anna Snouffer,
Acting Director, Office of Federal Advisory Committee Policy.

[FR Doc. 06-8925 Filed 10-26-06; 8:45 am]

BILLING CODE 4140-01-M